DEPARTMENT OF VETERANS AFFAIRS

Advisory Committee on Disability Compensation, Amended Notice of Meeting

The Department of Veterans Affairs (VA) gives notice under the Federal Advisory Committee Act, 5 U.S.C. App. 2, that a virtual meeting of the Advisory Committee on Disability Compensation (Committee), which was previously scheduled for Tuesday, September 28, 2021; has been rescheduled to begin and end on Tuesday, November 9, 2021 from 9:00 a.m. to 12:00 p.m. Eastern Standard Time. The virtual meeting is open to the public.

The purpose of the Committee is to advise the Secretary of Veterans Affairs on the maintenance and periodic readjustment of the VA Schedule for Rating Disabilities.

The Committee is to assemble and review relevant information relating to the nature and character of disabilities arising during service in the Armed Forces, provide an ongoing assessment of the effectiveness of the rating schedule, and give advice on the most appropriate means of responding to the needs of Veterans relating to disability compensation.

The agenda will include review and discussion of the 2020 Biennial Report and report recommendation training.

No time will be allocated at this virtual meeting for receiving oral presentations from the public. The public may submit 1-2 page summaries of their written statements for the Committee's review. Public comments may be received no later than October 26, 2021, for inclusion in the official meeting record. Please send these comments to Sian Roussel of the Veterans Benefits Administration, Compensation Service at sian.roussel@va.gov.

Members of the public who wish to obtain a copy of the agenda should contact Sian Roussel at Sian.Roussel@va.gov and provide his/her name, professional affiliation, email address and phone number. The call-in number for those who would like to attend the meeting is 1-404-397-1596; access code: 199 738 1753.

Dated: September 14, 2021.
Jelessa M. Burney,
Federal Advisory Committee Management Officer.

[FR Doc. 2021-20206 Filed 9-17-21; 8:45 am]

BILLING CODE P